DEPARTMENT OF DEFENSE

Department of the Army; Corps of Engineers

Notice of Intent To Grant Partially Exclusive License of the United States Patent Application No. 12/243,084, Filed October 01, 2008, Entitled: Soluble Salt Produced From a Biopolymer and a Process for Producing the Salt

AGENCY: Department of the Army, U.S. Army Corps of Engineers, DOD.

ACTION: Notice of intent.

SUMMARY: In accordance with 37 CFR 404.7(a)(1)(i), announcement is made of a prospective partially exclusive license of the following U.S. Patent Application 12/243,084, Filed October 01, 2008, to Green & Grow LLC for use in agricultural applications and products (to include crop preparation, cover crop, seed germination, seed coatings, side dressing, lawn application and starter ground cover) and applications in the fields of soil and slope stabilization, enhanced bioremediation, dust and run-off control, fly ash removal, emissions particulate removal, metal and inorganic chelation in soils and water, soil erosion, road stabilizer, and dust suppression.

DATES: Written objections must be filed not later than 15 days following publication of this announcement.

ADDRESSES: United States Army Engineer Research and Development Center, Attn: CEERD-OT (Ms. Bea Shahin), 2902 Newmark Drive, Champaign, IL 6182-1076.

FOR FURTHER INFORMATION CONTACT: Ms. Bea Shahin (217) 373-7234, FAX (217) 373-7210, e-mail: Bea.S.Shahin@usace.army.mil.

SUPPLEMENTARY INFORMATION: This patent application claims a method by which a biologically-natural material can be produced in bioreactors and transformed for use as a dry solid. The resulting biopolymer material can be used in place of synthetic, petroleum-based polymers for soil amendment applications to achieve increased soil strength, reduced air transport, and decreased soil erosion. During processing, the biopolymer also can be functionalized to improve its adsorption of heavy metals.

Brenda S. Bowen,
Army Federal Register Liaison Officer.

[FR Doc. 2010-22047 Filed 9-2-10; 8:45 am]

BILLING CODE 3720-58-P